DEPARTMENT OF COMMERCE

International Trade Administration

[A-570-846]

Brake Rotors From the People's Republic of China: Final Results of Sixth Antidumping Duty New Shipper Review

AGENCY: Import Administration, International Trade Administration, Department of Commerce.

ACTION: Notice of final results of sixth antidumping duty new shipper review.

SUMMARY: On June 3, 2002, the Department of Commerce published the preliminary results of the sixth new shipper review of the antidumping duty order on brake rotors from the People's Republic of China with respect to Longkou TLC Machinery Co., Ltd. See Brake Rotors from the People's Republic of China: Preliminary Results of the Sixth Antidumping Duty New Shipper Review, 67 FR 38251 (June 3, 2002) (Preliminary Results). The period of review is April 1, 2001, through September 30, 2001.

No interested party submitted comments on the preliminary results. Although changes were made to the margin calculation based on our verification findings, the final results do not differ from the preliminary results. The final weighted-average dumping margin for the reviewed company is listed below in the section entitled “Final Results of the Review.”

EFFECTIVE DATE: August 20, 2002.

FOR FURTHER INFORMATION CONTACT: Brian Smith or Terre Keaton, Import Administration, International Trade Administration, U.S. Department of Commerce, 14th Street and Constitution Avenue, NW., Washington, DC 20230; telephone: (202) 482-1766 or (202) 482-1280, respectively.

SUPPLEMENTARY INFORMATION:

The Applicable Statute

Unless otherwise indicated, all citations to the Tariff Act of 1930, as amended (“the Act”), are references to the provisions effective January 1, 1995, the effective date of the amendments made to the Act by the Uruguay Round Agreements Act. In addition, unless otherwise indicated, all citations to the Department of Commerce's (“the Department”) regulations are to 19 CFR part 351 (2001).

Background

On June 3, 2002, the Department published in the Federal Register the preliminary results of the sixth new shipper review of brake rotors from the People's Republic of China (“PRC”) (See Preliminary Results at 67 FR 38251). We verified Longkou TLC Machinery Co., Ltd.'s (“LKTLC”) information from June 10, 2002, through June 13, 2002, and issued the verification report on July 2, 2002. We provided parties the opportunity to comment on the preliminary results of the review. However, no interested party submitted comments. The Department has conducted this review in accordance with section 751 of the Act.

Scope of Order

The products covered by this order are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning. These brake rotors are for motor vehicles, and do not contain in the casting a logo of an original equipment manufacturer (“OEM”) which produces vehicles sold in the United States (e.g., General Motors, Ford, Chrysler, Honda, Toyota, Volvo). Brake rotors covered in the order are not certified by OEM producers of vehicles sold in the United States. The scope also includes composite brake rotors that are made of gray cast iron, which contain a steel plate, but otherwise meet the above criteria. Excluded from the scope of the order are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are currently classifiable under subheading 8708.39.5010 of the Harmonized Tariff Schedule of the United States (“HTSUS”). Although the HTSUS subheading is provided for convenience and customs purposes, the written description of the scope of this order is dispositive.

Verification

As provided in section 782(i)(A) of the Act, and 19 CFR 351.307, we verified LKTLC's information from June 10, 2002, through June 13, 2002, and issued the verification report on July 2, 2002.

Final Results of the Review

The weighted-average dumping margin for the period April 1, 2001, through September 30, 2001, is as follows:

Manufacturer/exporter | Time period (de minimis) | Margin (percent)
Longkou TLC Machinery Co., Ltd | 04/01/01-09/30/01 | 0.00

Assessment Rates

The Department will determine, and the Customs Service shall assess, antidumping duties on all appropriate entries. In accordance with 19 CFR 351.212(b)(1), we have calculated an exporter/importer (or customer)-specific assessment rate for merchandise subject to this review. The Department will issue appropriate assessment instructions directly to the Customs Service within 15 days of publication of these final results of review. We will direct the Customs Service to assess the resulting assessment rates against the entered customs values for the subject merchandise on each of the importer's/customer's entries during the review period.

Cash Deposit Requirements

The following deposit rates shall be required for merchandise subject to the order entered, or withdrawn from warehouse, for consumption on or after the publication date of these final results, as provided by section 751(a)(1) and 751(a)(2)(B) of the Act: (1) The cash deposit rate for LKTLC will be zero; (2) the cash deposit rate for PRC exporters for whom the Department has rescinded the review or for whom a review was not requested for this POR will continue to be the rate assigned in an earlier segment of the proceeding or the PRC-wide rate of 43.32 percent; (3) the cash deposit rate for all other PRC exporters will continue to be 43.32 percent; and (4) the cash deposit rate for non-PRC exporters of subject merchandise from the PRC will be the rate applicable to the PRC supplier of that exporter. These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (APO) of their responsibility concerning the return or destruction of proprietary information disclosed under APO in accordance with 19 CFR 351.305(a). Timely written notification of the return/destruction of APO materials or conversion to judicial protective order is hereby requested. Failure to comply with the regulations and terms of an APO is a violation which is subject to sanction.

We are issuing and publishing this determination and notice in accordance with sections 751(a)(1), 751(a)(2)(B), and 777(i) of the Act and 19 CFR 351.213 and 351.214.

Dated: August 14, 2002.
Richard W. Moreland,
Acting Assistant Secretary for Import Administration.

[FR Doc. 02-21176 Filed 8-19-02; 8:45 am]

BILLING CODE 3510-DS-P